Title 3—

The President

Executive Order 13886 of September 9, 2019

Modernizing Sanctions To Combat Terrorism

By the authority vested in me as President by the Constitution and the laws of the United States of America, including the International Emergency Economic Powers Act (50 U.S.C. 1701 et seq.) (IEEPA), the National Emergencies Act (50 U.S.C. 1601 et seq.), the United Nations Participation Act of 1945 (22 U.S.C. 287c) (UNPA), and section 301 of title 3, United States Code; and in view of multiple United Nations Security Council resolutions, including Resolution 1373 of September 28, 2001, Resolution 1526 of January 30, 2004, Resolution 1988 of June 17, 2011, Resolution 1989 of June 17, 2011, Resolution 2253 of December 17, 2015, Resolution 2255 of December 21, 2015, Resolution 2368 of July 20, 2017, and Resolution 2462 of March 28, 2019,

I, DONALD J. TRUMP, President of the United States of America, find that it is necessary to consolidate and enhance sanctions to combat acts of terrorism and threats of terrorism by foreign terrorists, acts that are recognized and condemned in the above-referenced United Nations Security Council resolutions. Accordingly, I hereby terminate the national emergency declared in Executive Order 12947 of January 23, 1995, and revoke Executive Order 12947, as amended by Executive Order 13099 of August 20, 1998. In order to build upon the initial steps taken in Executive Order 12947, to further strengthen and consolidate sanctions to combat the continuing threat posed by international terrorism, and in order to take additional steps to deal with the national emergency declared in Executive Order 13224 of September 23, 2001, with respect to the continuing and immediate threat of grave acts of terrorism and threats of terrorism committed by foreign terrorists, which include acts of terrorism that threaten the Middle East peace process, it is hereby ordered as follows:

Section 1. Section 1 of Executive Order 13224 is hereby amended to read as follows:

“Section 1. (a) All property and interests in property that are in the United States, that hereafter come within the United States, or that are or hereafter come within the possession or control of any United States person of the following persons are blocked and may not be transferred, paid, exported, withdrawn, or otherwise dealt in:

(i) persons listed in the Annex to this order;

(ii) foreign persons determined by the Secretary of State, in consultation with the Secretary of the Treasury, the Attorney General, and the Secretary of Homeland Security:

(A) to have committed or have attempted to commit, to pose a significant risk of committing, or to have participated in training to commit acts of terrorism that threaten the security of United States nationals or the national security, foreign policy, or economy of the United States; or

(B) to be a leader of an entity:

(1) listed in the Annex to this order; or

(2) whose property and interests in property are blocked pursuant to a determination by the Secretary of State pursuant to this order;

(iii) persons determined by the Secretary of the Treasury, in consultation with the Secretary of State, the Secretary of Homeland Security, and the Attorney General:

(A) to be owned, controlled, or directed by, or to have acted or purported to act for or on behalf of, directly or indirectly, any person whose property and interests in property are blocked pursuant to this order;

(B) to own or control, directly or indirectly, any person whose property and interests in property are blocked pursuant to this order;

(C) to have materially assisted, sponsored, or provided financial, material, or technological support for, or goods or services to or in support of, an act of terrorism as defined in section 3(d) of this order, or any person whose property and interests in property are blocked pursuant to this order;

(D) to have participated in training related to terrorism provided by any person whose property and interests in property are blocked pursuant to this order;

(E) to be a leader or official of an entity whose property and interests in property are blocked pursuant to:

(1) a determination by the Secretary of the Treasury pursuant to this order; or

(2) subsection (a)(iv) of this section; or

(F) to have attempted or conspired to engage in any of the activities described in subsections (a)(iii)(A) through (E) of this section;

(iv) persons whose property and interests in property were blocked pursuant to Executive Order 12947, as amended, on or after January 23, 1995, and remained blocked immediately prior to the effective date of this order.

(b) The Secretary of the Treasury is hereby authorized to prohibit the opening, and prohibit or impose strict conditions on the maintaining, in the United States, of a correspondent account or payable-through account of any foreign financial institution that the Secretary of the Treasury, in consultation with the Secretary of State, has determined, on or after the effective date of this order, has knowingly conducted or facilitated any significant transaction on behalf of any person whose property and interests in property are blocked pursuant to this order.

(c) The prohibitions in subsections (a) and (b) of this section apply except to the extent provided by statutes, or in regulations, orders, directives, or licenses that may be issued pursuant to this order, and notwithstanding any contract entered into or any license or permit granted prior to the effective date of this order.”

Sec. 2. Section 5 of Executive Order 13224 is amended by replacing the reference to subsection 1(d) with a reference to subsection 1(a)(iii).

Sec. 3. (a) Nothing in this order shall be construed to impair or otherwise affect:

(i) the authority granted by law to an executive department or agency, or head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

Sec. 4. This order is effective at 12:01 a.m. eastern daylight time on September 10, 2019.

THE WHITE HOUSE,

September 9, 2019.

[FR Doc. 2019-19895

2019-19895 8:45 am]

BILLING CODE 3295-F9-P